DEPARTMENT OF HOMELAND SECURITY

Federal Emergency Management Agency

[Docket ID FEMA-2014-0022]

Technical Mapping Advisory Council

AGENCY: Federal Emergency Management Agency, DHS.

ACTION: Committee management; request for applicants for appointment to the Federal Emergency Management Agency's Technical Mapping Advisory Council.

SUMMARY: The Federal Emergency Management Agency (FEMA) is requesting qualified individuals interested in serving on the Technical Mapping Advisory Council (TMAC) to apply for appointment. As provided for in the Biggert-Waters Flood Insurance Reform Act of 2012, the TMAC makes recommendations to the FEMA Administrator on how to improve, in a cost-effective manner, the accuracy, general quality, ease of use, and distribution and dissemination of flood insurance rate maps (FIRMs) and risk data; and performance metrics and milestones required to effectively and efficiently map flood risk areas in the United States. Applicants will be considered for appointment in the event that there are vacancies on the TMAC.

DATES: Applications will be accepted until 11:59 p.m. E.S.T. on April 30, 2016.

ADDRESSES: Applications for membership should be submitted by one of the following methods:

• Email: FEMA-TMAC@fema.dhs.gov.

• Mail: FEMA, Federal Insurance and Mitigation Administration, Risk Analysis Division, Attn: Kathleen Boyer, 1800 South Bell Street, Arlington, VA 20598-3030.

FOR FURTHER INFORMATION CONTACT: Kathleen Boyer (Designated Federal Officer for the TMAC); address: FEMA, 1800 South Bell Street, Arlington, VA 20598-3030; telephone: (202) 646-4023; and email: FEMA-TMAC@fema.dhs.gov. The TMAC Web site is: http://www.fema.gov/TMAC.

SUPPLEMENTARY INFORMATION: The TMAC is an advisory committee that was established by the Biggert-Waters Flood Insurance Reform Act of 2012, 42 U.S.C. 4101a, and in accordance with provisions of the Federal Advisory Committee Act (FACA), 5 U.S.C. App. (Pub. L. 92-463). The TMAC is required to review and makes recommendations to FEMA on mapping-related issues and activities. This includes mapping standards and guidelines, performance metrics and milestones, map maintenance, interagency and intergovernmental coordination, map accuracy, funding strategies, and other mapping-related issues and activities. In addition, the TMAC is required to submit an annual report to the FEMA Administrator that contains: (1) A description of the activities of the Council; (2) an evaluation of the status and performance of flood insurance rate maps and mapping activities to revise and update Flood Insurance Rate Maps; and (3) a summary of recommendations made by the Council to the FEMA Administrator. In late 2015, the TMAC submitted its first annual report, as well as a one-time Future Conditions report. Members of the TMAC will be appointed based on their demonstrated knowledge and competence regarding surveying, cartography, remote sensing, geographic information systems, or the technical aspects of preparing and using FIRMs. To the maximum extent practicable, FEMA will ensure that membership of the TMAC has a balance of Federal, State, local, Tribal, and private members, and includes geographic diversity.

FEMA is requesting qualified individuals who are interested in serving on the TMAC to apply for appointment. Applicants will be considered for appointment for vacancies on the TMAC, the terms of which start on October 1, 2016. Certain members of the TMAC, as described below, will be appointed to serve as Special Government Employees (SGE) as defined in section 202(a) of title 18 United States Code. Candidates selected for appointment as SGEs are required to complete a Confidential Financial Disclosure Form (Office of Government Ethics (OGE) Form 450). This form can be obtained by visiting the Web site of the Office of Government Ethics (http://www.oge.gov). Please do not submit this form with your application. Qualified applicants will be considered for one or more of the following membership categories:

a. One member of a recognized professional surveying association or organization (SGE appointment);

b. One member of a recognized professional mapping association or organization (SGE appointment);

c. One member of a recognized professional engineering association or organization (SGE appointment);

d. One representative of a State national flood insurance coordination office;

e. One member of a recognized regional flood and storm water management organization (SGE appointment);

f. One representative of a State government agency that has entered into a cooperating technical partnership with the FEMA Administrator and has demonstrated the capability to produce FIRMs;

g. One representative of a local government agency that has entered into a cooperating technical partnership with the FEMA Administrator and has demonstrated the capability to produce FIRMs;

h. One member of a recognized floodplain management association or organization (SGE appointment);

i. One member of a recognized risk management association or organization (SGE appointment); and

j. One State mitigation officer (SGE appointment).

Members of the TMAC will serve terms of office for two years. There is no application form. However, applications must include the following information: The applicant's full name, home and business phone numbers, preferred email address, home and business mailing addresses, current position title and organization, resume or curriculum vitae, and the membership category of interest (e.g., State mitigation officer). Contact information is provided in the FOR FURTHER INFORMATION CONTACT section of this notice.

The TMAC will meet not less than twice a year. Members may be reimbursed for travel and per diem, and all travel for TMAC business must be approved in advance by the Designated Federal Officer. The Department of Homeland Security (DHS) does not discriminate in employment on the basis of race, color, religion, sex, national origin, political affiliation, sexual orientation, gender identity, marital status, disability and genetic information, age, membership in an employee organization, or other non-merit factor. DHS strives to achieve a widely diverse candidate pool for all its recruitment actions. Registered lobbyists, current FEMA employees, Disaster Assistance Employees, and reservists will not be considered for appointments for these positions.

Dated: March 22, 2016.
Roy Wright,
Associate Administrator, Federal Insurance and Mitigation Administration.

[FR Doc. 2016-07189 Filed 3-30-16; 8:45 am]

BILLING CODE 9110-12-P